DEPARTMENT OF ENERGY

Fusion Energy Sciences Advisory Committee

AGENCY: Department of Energy, Office of Science.

ACTION: Notice of open meeting.

SUMMARY: This notice announces a meeting of the Fusion Energy Sciences Advisory Committee. The Federal Advisory Committee Act (Pub. L. 92-463, 86 Stat. 770) requires that public notice of these meetings be announced in the Federal Register.

DATES: Thursday, July 28, 2011 9 a.m. to 5 p.m.

ADDRESSES: Gaithersburg Hilton, 620 Perry Parkway, Gaithersburg, Maryland 20877.

FOR FURTHER INFORMATION CONTACT: Albert L. Opdenaker, Designated Federal Officer, Office of Fusion Energy Sciences; U.S. Department of Energy; 1000 Independence Avenue, SW., Washington, DC 20585-1290; Telephone: 301-903-4941.

SUPPLEMENTARY INFORMATION: Purpose of the Meeting: To complete the charge given to the Committee in the letter from Director, Office of Science, dated February 25, 2011 to describe the current policies and practices for disseminating research results in the fields that are relevant to the Fusion Energy Sciences program.

Tentative Agenda Items:

• FES perspective and program status.

• Report from Subcommittee on Research Data Dissemination and discussion of the draft report.

• Status of ITER Project.

• Status of the Fusion Nuclear Sciences Pathways Assessment Activities.

• Public Comments.

Note: The FESAC meeting will be broadcast live on the Internet. You may find out how to access this broadcast by going to the following site prior to the start of the meeting. A video record of the meeting including the presentations that are made will be archived at this site after the meeting ends: http://doe.granicus.com/ViewPublisher.php?view_id=3.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements during the Public Comments time on the agenda. The Chairperson of the Committee will conduct the meeting to facilitate the orderly conduct of business. Public comment will follow the 10-minute rule.

Minutes: The minutes of the meeting will be available for public review and copying within 30 days at the Freedom of Information Public Reading Room; 1G-033, Forrestal Building; 1000 Independence Avenue, SW., Washington, DC 20585; between 9 a.m. and 4 p.m., Monday through Friday, except holidays, and on the Fusion Energy Sciences Advisory Committee Web site— http://www.science.doe.gov/ofes/fesac.shtml.

Issued at Washington, DC, on July 6, 2011.
Rachel Samuel,
Deputy Committee Management Officer.

[FR Doc. 2011-17313 Filed 7-8-11; 8:45 am]

BILLING CODE 6450-01-P